DEPARTMENT OF AGRICULTURE

Forest Service

Monongahela National Forest, WV, Allegheny Wood Products Easement EIS

AGENCY: Forest Service, USDA.

ACTION: Notice of intent to prepare an environmental impact statement.

SUMMARY: The USDA Forest Service, Monongahela National Forest intends to prepare an Environmental Impact Statement (EIS) to disclose the environmental consequences of authorizing an easement on National Forest System lands. In the EIS, the USDA Forest Service will address the potential environmental impacts of authorizing the use of an existing abandoned railroad grade to provide reasonable access to a landowner to private lands in the Blackwater Canyon area of Tucker County, West Virginia. See the SUPPLEMENTARY INFORMATION section for the Purpose and Need for this action.

DATES: Comments concerning the scope of the analysis must be received by May 31, 2005. The draft environmental impact statement is expected August, 2005 and the final environmental impact statement is expected November, 2005.

ADDRESSES: Send written comments to Bill Shields, NEPA Coordinator, Monogahela National Forest, 200 Sycamore Street, Elkins, West Virginia 26241. Send electronic comments to comments-eastern-monogahela@fs.fed.fus. See SUPPLEMENTARY INFORMATION section for information on how to send electronic comments.

FOR FURTHER INFORMATION CONTACT: Bill Shields, Forest NEPA Coordinator, Monongahela National Forest, USDA, Forest Service; telephone: (304) 636-1800 extension 287. See address above under ADDRESSES. Copies of the documents may be requested at the same address. Another means of obtaining information is to visit the Forest Web page at www.fs.fed.us/r9/monongahela—click on “Forest Planning” then scroll down to Proposed Actions, then AWP Easement EIS.

SUPPLEMENTARY INFORMATION

Purpose and Need for Action

The Alaska National Interest Lands Conservation Act (ANILCA) states that the Secretary of Agriculture “shall provide such access to non-federally owned land within the boundaries of the National Forest System as the Secretary deems adequate to secure to the owner the reasonable use and enjoyment thereof * * *” (§ 1323) The responsibility and authority to grant access has been delegated from the Secretary to the Forest Supervisor. Allegheny Wood Products (AWP) has requested access consistent with the ANILCA and the Federal Land Policy and Management Act of 1976 (FLPMA) to manage the timber resources on their land between the Blackwater River and the railroad grade through Blackwater Canyon. Management activities on the private land would include timber stand improvement, commercial thinnings, and forest protection from insects, disease, and wildfire. There is no deeded access to the AWP property. The land is steep, and is bounded on the south by the Blackwater River. The only reasonable access to the AWP property is via the railroad grade through the Canyon, a portion of which AWP is a half owner. The Federal government owns the other half of the grade, which is administered by the Forest Service as part of the Monongahela National Forest.

Goal XIV of the Monongahela National Forest Land and Resource Management Plan (Forest Plan) states “Permit use of National Forest land by others, under special use or lease authorities, that is compatible with National Forest goals and objectives and will contribute to the improved quality of life for local residents.”

This authorization is needed to move towards goal XIV of the Forest Plan.

Proposed Action

The Forest Service is proposing to authorize an easement for the railroad grade in Blackwater Canyon to Alleghany Wood Products for the management of their timbered property. This authorization would include the need for additional improvement of sections of the road to allow motorized vehicle use.

Responsible Official

Clyde Thompson, Forest Supervisor; Monongahela National Forest; 200 Sycamore Street; Elkins, West Virginia 26241.

Nature of Decision To Be Made

The decision to be made is how to provide access for Alleghany Wood Products to their property adjacent to National Forest System lands. While the No Action alternative will be considered in the analysis, selection of this alternative is precluded by the requirements of the ANILCA.

Scoping Process

Scoping will be initiated by the posting of this notice in the Federal Register. Scoping letters will be mailed to interested parties requesting input from members of the public. Upon completion of the Draft Environmental Impact Statement (DEIS), comments will be solicited through a Notice of Availability in the Federal Register and a mailing of the DEIS to those members of the public who have responded to our scoping efforts and other interested parties.

Preliminary Issues

There are several historic properties along the railroad grade which are eligible for inclusion in the National Register of Historic Places. Repeated use of this road by motorized equipment has the potential to damage to these historic properties. In addition, the railroad grade may be eligible for inclusion in the National Historic Register.

Comment Requested

This notice of intent initiates the scoping process which guides the development of the environmental impact statement. In November, 2002 a scoping letter was sent to members of the public regarding this project. At that point in time, it was believed that an Environmental Assessment may be appropriate. As a result of scoping and further analysis, it has been determined that an Environmental Impact Statement is more appropriate due to the presence of, and potential impacts to, heritage resources.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CRF 1503.3 in addressing these points.

Comments received, including the names and addresses of those who comment, will be considered part of the public record on this proposal and will be available for public inspection.

(Authority: 40 CFR 1501.7 and 1508.22; Forest Service Handbook 1909.15, Section 21)

Dated: April 4, 2005.
Michele H. Jones,
Acting Forest Supervisor.

[FR Doc. 05-7363 Filed 4-12-05; 8:45 am]

BILLING CODE 3410-11-M